ENVIRONMENTAL PROTECTION AGENCY

[EPA-HQ-SFUND-2014-0549; FRL-9684-01-OMS]

Information Collection Request Submitted to OMB for Review and Approval; Comment Request; Application for Reimbursement to Local Governments for Emergency Response to Hazardous Substance Releases Under the Comprehensive Environmental Response, Compensation, and Liability Act (CERCLA) Section 123 (Renewal)

AGENCY: Environmental Protection Agency (EPA).

ACTION: Notice.

SUMMARY: The Environmental Protection Agency (EPA) has submitted an information collection request (ICR), Application for Reimbursement to Local Governments for Emergency Response to Hazardous Substance Releases Under the Comprehensive Environmental Response, Compensation, and Liability Act (CERCLA) Section 123 (EPA ICR Number 1425.12, OMB Control Number 2050-0077) to the Office of Management and Budget (OMB) for review and approval in accordance with the Paperwork Reduction Act. This is a proposed extension of the ICR, which is currently approved through May 31, 2022. Public comments were previously requested via the Federal Register on November 5, 2021, during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 20, 2022.

ADDRESSES: Submit your comments, referencing Docket ID Number EPA-HQ-SFUND-2014-0549, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Brian Schlieger, Office of Emergency Management, Mail Code 5104A, Environmental Protection Agency, 1200 Pennsylvania Ave. NW, Washington, DC 20460; telephone number: (202) 564-3128; email address: Schlieger.brian@epa.gov.

SUPPLEMENTARY INFORMATION: Supporting documents, which explain in detail the information that EPA will be collecting, are available in the public docket for this ICR. The docket can be viewed online at http://www.regulations.gov. For further information about the EPA's public docket, Docket Center services and the current status, please visit us online at https://www.epa.gov/dockets. The telephone number for the Docket Center is 202-566-1744.

Abstract: The Agency requires applicants for reimbursement under this program authorized under Section 123 of CERCLA to submit an application that demonstrates consistency with program eligibility requirements. This is necessary to ensure proper use of the Superfund. EPA reviews the information to ensure compliance with all statutory and program requirements. The applicants are local governments who have incurred expenses, above and beyond their budgets, for hazardous substance response. Submission of this information is voluntary and to the applicant's benefit.

Form Numbers: 9310-1.

Respondents/affected entities: Local Governments that apply for reimbursement under this program.

Respondent's obligation to respond: Voluntary (CERCLA Section 123).

Estimated number of respondents: 20 (total).

Frequency of response: Voluntary, on occasion.

Total estimated burden: 170 hours (per year).

Total estimated cost: $4,392, which includes no capital or maintenance and operational costs.

Changes in the Estimates: The decrease in hours per application is a result of the form can be filled and submitted electronically.

Courtney Kerwin,
Director, Regulatory Support Division.

[FR Doc. 2022-05891 Filed 3-18-22; 8:45 am]

BILLING CODE 6560-50-P